ENVIRONMENTAL PROTECTION AGENCY

[EPA-HQ-OPP-2010-0830; FRL-8854-2]

Pesticides; Science Policies; Notice of Withdrawal and Notice of Availability

AGENCY: Environmental Protection Agency (EPA).

ACTION: Notice.

SUMMARY: EPA announces the withdrawal of two pesticide science policy documents that are no longer in use, entitled: “The Incorporation of Water Treatment Effects on Pesticide Removal and Transformations in Food Quality Protection Act (FQPA) Drinking Water Assessments,” dated October 25, 2001, and “Drinking Water Screening Level Assessments,” dated September 1, 2000. EPA also announces the availability of two updated pesticide science policy documents, entitled: “The Development and Use of the Index Reservoir in Drinking Water Exposure Assessments,” dated April 15, 2010, and “Guidance on Development and Use of Percent Cropped Area Adjustment,” dated September 9, 2010.

FOR FURTHER INFORMATION CONTACT: Marietta Echeverria, Environmental Fate and Effects Division (7507P), Office of Pesticide Programs, Environmental Protection Agency, 1200 Pennsylvania Ave., NW., Washington, DC 20460-0001; telephone number: (703) 305-8578; fax number: (703) 308-6181; e-mail address: echeverria.marietta@epa.gov.

SUPPLEMENTARY INFORMATION:

I. General Information

A. Does this action apply to me?

This action is directed to the public in general. This action, however, may be of interest to persons who produce or formulate pesticides or who register pesticide products. Since other entities may also be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2010-0830. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

The Food Quality Protection Act of 1996 significantly amended the Federal Insecticide, Fungicide, and Rodenticide Act (FIFRA) (7 U.S.C. 136 et seq.) and the Federal Food, Drug, and Cosmetic Act (FFDCA) (21 U.S.C. 346). Among other changes, FQPA established a stringent health-based standard (“a reasonable certainty of no harm”) for pesticide residues in foods to assure protection from unacceptable pesticide exposure and strengthened health protections for infants and children from pesticide risks.

Working with stakeholders and a Federal advisory committee, the Agency identified several science policy issues that were key to the implementation of FQPA and tolerance reassessment. In the Federal Register of October 29, 1998 (63 FR 58038) (FRL-6041-5), EPA published a framework to describe the issues, and the public participation process that EPA would use to review the documents developed to address the issues identified. Following that process, EPA then issued a series of draft and revised documents concerning the nine science policy issues that were identified. The documents are available at http://www.epa.gov/oppfead1/trac/science/. Since that time, EPA has periodically identified the need to update the documents to ensure that the policy and guidance provided is current. This Federal Register notice announces the withdrawal of two obsolete documents and the availability of two updated documents.

III. Status Update for Pesticide Science Policy Documents

A. Withdrawn Documents

EPA is withdrawing the pesticide science policy document “The Incorporation of Water Treatment Effects on Pesticide Removal and Transformations in Food Quality Protection Act (FQPA) Drinking Water Assessments,” dated October 25, 2001, because it is obsolete. When drafted in 2001, this science policy document was developed with two objectives: (1) To present a preliminary literature review on the impact of different treatment processes on pesticide removal and transformation in treated drinking water derived from ground and surface water sources; and (2) to describe how OPP would consider the impacts of drinking water treatment in drinking water exposure assessments under FQPA. Since the issuance of this policy document, OPP has adjusted its methods for estimating pesticide concentrations in drinking water, using a variety of data and different models. Up to date information on the methods, models and databases used for drinking water exposure assessments is available at http://www.epa.gov/pesticides/science/models_db.htm.

EPA is also withdrawing the science policy document entitled: “Drinking Water Screening Level Assessments,” dated September 1, 2000, because the information it provided has been superseded by the two updated documents whose availability is announced in the next section.

B. Updated Documents

The updated science policy document entitled “Development and Use of the Index Reservoir in Drinking Water Exposure Assessments,” dated April 15, 2010, updates and supersedes the science policy document entitled “Guidance for Use of the Index Reservoir in Drinking Water Exposure Assessments,” dated November 16, 1999. It also reflects changes in procedures, error corrections, and editorial modifications to improve clarity and completeness. This science policy document is intended to provide guidance on the development and use of the index reservoir scenario for use in estimating pesticide concentrations in drinking water derived from vulnerable surface water supplies. Between 1996, after passage of the FQPA, and 2000 the Agency used the “standard pond” as an interim scenario for drinking water exposure. In 2000, the Agency began using the index reservoir scenario to represent a watershed capable of supporting a drinking water facility that is prone to high pesticide concentrations. With the use of the index reservoir scenario, the Office of Pesticide Programs was able to improve the quality and accuracy of its models for estimating pesticide concentrations in drinking water. This updated pesticide science policy document is available online at http://www.epa.gov/oppefed1/models/water/index_reservoir_dwa.html.

The updated science policy document entitled “Development and Use of Percent Cropped Area Adjustment Factors in Drinking Water Exposure Assessments,” dated September 9, 2010, merges two previous documents, entitled “Percent Crop Area Adjustment to Tier 2 Surface Water Model Estimates for Pesticide Drinking Water Exposure Assessments,” dated December 7, 1999, and “Use of Regional Percent Crop Area Factors in Refined Drinking Water Assessments,” dated July 23, 2003, and supersedes both of them. The updated science policy document is intended to provide guidance on the development and use of the percent cropped area (PCA) adjustment factors in estimating the exposure in drinking water derived from vulnerable surface water supplies. Since the passage of FQPA in 1996 through 2000, the Agency assumed the entire area of the watershed was planted with the crop of interest (i.e. crop coverage). In 2000, the Agency began using the PCA adjustment factor to account for the percentage of the watersheds planted with a crop, recognizing that a watershed large enough to support a drinking water facility will not usually be planted completely with a single crop. Use of this factor improves the quality and accuracy of OPP's modeling of drinking water exposure for pesticides. This updated pesticide science policy document is available online at http://www.epa.gov/oppefed1/models/water/pca_adjustment_dwa.html.

IV. Policies Not Rules

The policy documents discussed in this notice are intended to provide guidance to EPA personnel and decision makers, and to the public. As a guidance document and not a rule, the policies in this guidance are not binding on either EPA or any outside parties. Although this guidance provides a starting point for EPA risk assessments, EPA will depart from its policy where the facts or circumstances warrant. In such cases, EPA will explain why a different course was taken. Similarly, outside parties remain free to assert that a policy is not appropriate for a specific pesticide or that the circumstances surrounding a specific risk assessment demonstrate that a policy should not be applied.

List of Subjects

Environmental protection, Administrative practice and procedure, Agricultural commodities, Pesticides and pests.

Dated: January 19, 2011.
Stephen A. Owens,
Assistant Administrator, Office of Chemical Safety and Pollution Prevention.

[FR Doc. 2011-1633 Filed 1-25-11; 8:45 am]

BILLING CODE 6560-50-P